DEPARTMENT OF TRANSPORTATION

Federal Aviation Administration

Random Drug and Alcohol Testing Percentage Rates of Covered Aviation Employees for the Period of January 1, 2004, Through December 31, 2004

AGENCY: Federal Aviation Administration (FAA), Department of Transportation.

ACTION: Notice.

SUMMARY: The FAA has determined that the minimum random drug and alcohol testing percentage rates for the period January 1, 2004, through December 31, 2004, will remain at 25 percent of safety-sensitive aviation employees for random drug testing and 10 percent of safety-sensitive aviation employees for random alcohol testing.

FOR FURTHER INFORMATION CONTACT: Mr. Arnold N. Schwartz, Office of Aerospace Medicine, Drug Abatement Division, Program Analysis Branch (AAM-810), Washington, DC 20591; telephone (202) 267-5970.

Discussion: The FAA Administrator set the minimum random drug testing rate for 2004 at 25 percent because the data received under the Management Information System (MIS) reporting requirements for two consecutive calendar years indicate that the positive rate is less than 1.0 percent. The FAA Administrator set the minimum alcohol testing rate for 2004 at 10 percent because the data received under the MIS reporting requirements for two consecutive calendar years indicate that the positive rate is less than 0.5 percent.

SUPPLEMENTARY INFORMATION: If you have questions about how the annual random drug and alcohol percentage testing rates are determined please refer to the Code of Federal Regulations title 14, part 121, appendices I and J.

Jon L. Jordan,
Federal Air Surgeon.

[FR Doc. 03-29848 Filed 11-28-03; 8:45 am]

BILLING CODE 4910-13-M